DEPARTMENT OF TRANSPORTATION

Federal Transit Administration

[Docket No FTA-2010-0027]

National Transit Database: Amendments to the Urbanized Area Annual Reporting Manual and to the Safety and Security Reporting Manual

AGENCY: Federal Transit Administration (FTA), DOT.

ACTION: Notice of Proposed Amendments to the 2011 National Transit Database Urbanized Area Annual Reporting Manual and Announcement of Immediate Suspension of Collecting Security Data on the S&S-50 Form in the Safety and Security Module

SUMMARY: This notice provides interested parties with the opportunity to comment on changes to the Federal Transit Administration's (FTA) National Transit Database (NTD) reporting requirements, including amendments to the 2011 Urbanized Area Annual Reporting Manual (Annual Manual). Pursuant to 49 U.S.C. 5335, FTA requires recipients or beneficiaries of FTA Urbanized Area Formula Grants to provide an annual report to the Secretary of Transportation via the NTD reporting system according to a uniform system of accounts (USOA). Other transit systems in urbanized areas report to the NTD under these requirements on a voluntary basis for purposes of including data from their NTD reports in the apportionment of Urbanized Area Formula Grants. In an ongoing effort to improve the NTD reporting system and be responsive to the needs of the transit systems reporting to the NTD, FTA annually refines and clarifies the reporting requirements through revisions to the Annual Manual. Additionally, FTA announces that it is immediately suspending data collection of personal security incidents on the S&S-50 Form in the Safety & Security Module.

DATES: Comments must be received on or before December 6, 2010. FTA will consider late filed comments to the extent practicable.

ADDRESSES: You may submit comments [identified by DOT Docket ID Number FTA-2010-0027] at the Federal eRulemaking Portal at: http://www.regulations.gov. Follow the online instructions for submitting comments.

Fax: 202-493-2251.

Mail: Docket Management Facility: U.S. Department of Transportation, 1200 New Jersey Avenue, SE., West Building Ground Floor, Room W12-140, Washington, DC 20590-0001.

Hand Delivery or Courier: West Building Ground Floor, Room W12-140, 1200 New Jersey Avenue, SE., between 9 a.m. and 5 p.m. ET, Monday through Friday, except Federal holidays.

Instructions: When submitting comments, you must use docket number FTA-2010-0027. This will ensure that your comment is placed in the correct docket. If you submit comments by mail, you should submit two copies and include the above docket number. Note that all comments received will be posted, without change, to http://www.regulations.gov including any personal identifying information.

FOR FURTHER INFORMATION CONTACT: John D. Giorgis, NTD Program Manager, Office of Budget and Policy, (202) 366-5430 (telephone); (202) 366-7989 (fax); or john.giorgis@dot.gov (e-mail).

SUPPLEMENTARY INFORMATION:

I. Background

The National Transit Database (NTD) is the Federal Transit Administration's (FTA's) primary database for statistics on the transit industry. Congress established the NTD to “help meet the needs of * * * the public for information on which to base public transportation service planning * * *” (49 U.S.C. 5335). Currently, over 700 transit providers in urbanized areas report to the NTD through an Internet-based reporting system. Each year, performance data from these submissions are used to apportion over $6 billion of FTA funds under the Urbanized Area Formula (Section 5307) Grants and the Fixed Guideway Modernization Grants Programs. These data are made available on the NTD Web site at http://www.ntdprogram.gov for the benefit of the public, transit systems, and all levels of government. These data are also used in the annual National Transit Summaries and Trends report, the biennial Conditions and Performance Report to Congress, and in meeting FTA's obligations under the Government Performance and Results Act. Reporting requirements are governed by a Uniform System of Accounts (USOA) and an Annual Reporting Manual that is issued each year. Both the USOA and the Annual Manual are available for review on the NTD Website at http://www.ntdprogram.gov. Additionally, urbanized area transit systems also make monthly reports to the NTD on safety and security incidents through the NTD Safety & Security Module.

II. Proposed Changes in the 2011 Annual Manual

FTA proposes several substantive changes to the Annual Manual for the 2011 Report Year: (1) To clarify the eligibility of vanpools to be reported to the NTD; (2) to redefine several of the modes of transportation service; (3) to make some definitional clarifications; (4) to revise the reporting requirements for small transit systems; (5) to add financial balance sheet reporting; (6) to update the procedures for making urbanized area allocations; and (7) to establish special procedures for handling the release of new urbanized area definitions from the Census Bureau.

(1) Eligibility of Vanpools for the NTD

Currently, FTA requires vanpools to have a public sponsor in order to be included in the NTD. This does not capture vanpool service being provided as public transportation by the private sector. In other cases, the mere existence of a public sponsor for vanpool service has allowed some vanpools to be reported to the NTD without adequate assurances that the vanpool is in fact public transportation.

FTA proposes to change its requirements for reporting vanpool service to the NTD as follows: To be included in the NTD, a sponsor of vanpool service must demonstrate: (1) That it is open to the public and that any vans that are restricted a priori to particular employers and which do not participate in the ride-matching service of the vanpool are excluded from the NTD report; (2) that it actively engages in the following activities: advertising the vanpool service to the public, matching interested members of the public to vanpools with available seats, and reasonable planning to increase its service (when funding is available) to meet demand from additional riders; (3) that the service is open to individuals with disabilities, in accordance with the Americans with Disabilities Act of 1990; and (4) that it has a record-keeping system in place to collect and report fully-allocated operating costs for the service.

Reporting fully-allocated operating costs means that the vanpool can report on the total cost of the service, including: (1) Any fuel, insurance, and maintenance costs paid by vanpool participants; (2) all advertising and promotion costs; (3) costs paid by any third-parties to support the vanpool program; and (4) any contract administration costs borne by the vanpool sponsor.

Finally, NTD IDs for vanpool programs will be assigned on the basis of the entity that is sponsoring the vanpool, and is defining the eligibility requirements for participation in the vanpool. FTA will require all existing vanpool services in the NTD to recertify their approval to report to the NTD based on the new criteria for the 2011 Report Year.

(2) New Modes

Almost all data reported to the NTD is reported on the basis of modes of service, such as the commuter rail (CR) mode or the demand response (DR) mode. Mode of operation is a useful way of organizing transit data, as it easily facilitates the creation of National benchmarks and performance peer-groups for systems of similar characteristics. To facilitate this, and to recognize that modes have changed over time, FTA proposes creating four new modes of operation: Bus Rapid Transit (RB), Commuter Bus (CB), Streetcar Rail (SR), and Hybrid Rail (YR). These definitions, like all NTD modes, may not necessarily apply to other areas where definitions are established by law, rule, or regulation.

Bus Rapid Transit (RB): This mode will be for fixed-route bus systems that either (1) operate their entire routes predominantly on fixed-guideways (other than on highway HOV or shoulder lanes, such as for commuter bus service) or (2) that operate entire routes of high-frequency service with the following elements: substantial transit stations, traffic signal priority or pre-emption, low-floor vehicles or level-platform boarding, and separate branding of the service. High-frequency service is defined as 10-minute peak and 15-minute off-peak headways for at least 14 hours of service operations per day.

Commuter Bus (CB): This mode will be for fixed-route bus systems that are primarily connecting outlying areas with a central city through bus service that operates with at least five miles of continuous closed-door service. This service typically operates using motorcoaches, and usually features peak scheduling, multiple-trip tickets, and multiple stops in outlying areas with limited stops in the central city.

Streetcar Rail (SR): This mode is for rail transit systems operating entire routes predominantly on streets in mixed-traffic. This service typically operates with single-car trains powered by overhead catenaries and with frequent stops.

Hybrid Rail (YR): This mode is for rail transit systems primarily operating entire routes on the National system of railroads, but not operating with the characteristics of commuter rail. This service typically operates light rail-type vehicles as diesel multiple-unit trains (DMU's). These trains do not meet Federal Railroad Administration standards, and so must operate with temporal separation from freight rail traffic.

FTA expects that many systems reporting these new modes will make a transition of 100% of their service from the existing Motorbus (MB) or Light Rail (LR) modes to the new mode. For systems that will need to split their service between an existing mode and a new mode, FTA will grant waivers from this requirement for up to two years to accommodate the transition.

(3) Definition Clarifications

FTA proposes reclassifying “Aerial Tramway” to be reported as a “rail” mode of operation, as this will aid data presentation in allowing it to be included with other small rail modes, such as Inclined Plane.

FTA also proposes combining the Monorail (MO) and Automated Guideway (AG) modes into a single Monorail/Automated Guideway (MG) mode. Currently, the definition of the “Monorail” mode only applies to a single system in Seattle, Washington. Also, the Automated Guideway mode currently applies to systems that are often popularly thought of as being in the Monorail mode (e.g. the Las Vegas Monorail.) In practice, both of these modes have similar characteristics of exclusive guideway without using steel wheels on rails. Combining these modes will increase data clarity for our users.

FTA also proposes clarifying the definitions used to collect miles of rail right-of-way alignment on the Transit Way Mileage (A-20) Form. FTA collects at-grade rail alignments on this form according to three categories: (1) At-grade exclusive right-of-way; (2) at-grade with cross-traffic; and (3) at-grade with mixed and cross-traffic. Examination of past years' NTD reports has indicated that this data has been inconsistently reported in the past. FTA proposes the following clarifications:

At-Grade With Mixed and Cross Traffic: includes alignments where rail vehicles and rubber-tire vehicles travel in the same lanes, and alignments where pedestrians may freely cross the tracks at any point.

At-Grade With Cross Traffic: closed (i.e., non-mixed) rail alignments between any two contiguous crossings that are at-grade should be reported as At-Grade With Cross Traffic. For example, crossing another right-of-way by using a tunnel or an elevated structure would not constitute an at-grade crossing, and at-grade crossings located before and after the tunnel or elevated structure would not be contiguous. The same would be true for tunnels or elevated structures used by the other right-of-way. Similarly, closed rail alignments between a rail yard or maintenance facility and an at-grade crossing should also be reported as “at-grade with cross traffic.” At-grade alignments between an at-grade crossing and an other-than-at-grade crossing with another right-of-way should be reported as At-Grade Exclusive Right-of-Way (ROW).

(4) Reporting Requirements for Small Systems

The NTD currently offers reduced reporting requirements to recipients or beneficiaries of Section 5307 grants that only operate 9 or fewer vehicles in maximum service throughout the year. Systems receiving this “9 or Fewer Vehicles Waiver” currently only need to report their contact information and their revenue vehicle inventory to the NTD each year. Systems receiving this waiver, however, do not report any data on service operations (e.g., vehicle revenue miles), nor on ridership, and thus data from these systems is not available for use in the apportionment of Section 5307 grants (including the Small Transit Intensive Cities (STIC) tier). As such, of the 144 transit systems eligible for this waiver in 2009, only 98 (68%) used the waiver. This is an even smaller percentage (14%) of the 705 systems reporting to the NTD in 2009.

The Safe, Accountable, Flexible, Efficient Transportation Equity Act: A Legacy to Users (SAFETEA-LU) of 2005 established new requirements for recipients or beneficiaries of Section 5311 grants (Other Than Urbanized Area (Rural) Formula Grants) to report to the NTD on their sources of revenues, vehicle revenue miles, and ridership, among other factors. This created two unusual circumstances. First, the NTD now collects and makes available to the public more data on rural transit systems than on small transit systems in urbanized areas. Second, in order to meet statutory reporting requirements, a small transit system that receives funding from both the Section 5307 and Section 5311 Programs may receive a “9 or Fewer Vehicles Waiver” for urbanized area reporting, but then must also provide data to their State Department of Transportation (State DOT) for rural reporting. These overlapping reporting requirements have caused confusion both to transit systems required to report to the NTD and to data users. Thus, FTA proposes to align the requirements for transit systems receiving a “9 or Fewer Vehicles Waiver” with the reporting requirements for the Rural NTD Module. Transit systems receiving such a waiver will report directly to the NTD Annual Module (Urbanized Area Reporting) through reporting forms that closely mirror the RU-20 Form used for the Rural NTD. As such, State DOTs will not be required to complete an RU-20 on behalf of subrecipients that are already reporting directly to the urbanized area modules of the NTD, but will instead simply complete the RU-50 Subrecipient Identification Form for these subrecipients.

In order to offset the increased burden on the public, FTA proposes to expand this waiver to urbanized area transit systems operating 30 or Fewer Vehicles in Maximum Service, and which do not operate any service over fixed-guideways. This would expand eligibility for the new “30 or Fewer Vehicles Waiver” to over 180 additional transit systems, representing nearly half of the transit systems reporting to the NTD.

Thus, transit systems receiving this waiver would be required to continue to report information on their contact information, their service area, and their revenue vehicle inventory. Additionally, these systems would be required to report on their sources of operating funds applied and sources of capital funds applied (at the level of each individual FTA program, total state funds, total local funds, and other funds), volunteer resources, and taxi cab trips used. Furthermore, service data would be reported by these systems as an annual total of vehicle revenue miles, vehicle revenue hours, unlinked passenger trips, and sponsored demand response trips. Passenger miles, however, would not be collected—in order to exempt these systems from the burden of sampling. Data from these systems would be used in the apportionment of formula grants (including STIC) wherever possible, but would be excluded from those calculations in the apportionment that rely upon passenger mile data. Systems that wish for their passenger mile data to benefit their local urbanized area in the apportionment must not apply for this waiver and must instead file a full NTD report.

Additionally, to support the apportionments, systems receiving this waiver would still be required to complete the short Federal Funding Allocation (FFA-10) Form. Additionally, systems receiving this waiver would now also be required to report to the Safety & Security Module, as well as to the Monthly Module. The Monthly Module requires a monthly report within 30 days of unlinked passenger trips, vehicle revenue miles, vehicle revenue hours, and vehicles operated within maximum service for the month. The Safety & Security Module requires a detailed report within 30 days of any incident involving one or more fatalities, one or more injuries, total property damage in excess of $25,000, or an evacuation for life safety reasons. The Safety & Security Module also requires a summary monthly report of minor incidents such as fires requiring suppression, or single-person slips or falls resulting in injuries. Most systems receiving this waiver would be able to quickly submit their monthly report indicating that no reportable incidents occurred.

(5) Financial Balance Sheet Reporting

In its proposed amendments to the 2009 Reporting Manual, FTA provided notice of its intent to simplify its existing data collection on bonds and loans. The current forms have caused a great deal of confusion to transit systems reporting to the NTD. FTA proposed to simplify bond and loan reporting on a separate form. However, FTA has received comments that this proposal was inadequate because it focused solely on one category of liabilities—bonds and loans—and also because it provided an incomplete picture of a transit system's financial health by not collecting any information on financial assets. FTA believes that information on the financial health of transit systems is very useful in fulfilling the NTD's statutory purpose of providing “information on which to base public transportation service planning,” so FTA is modifying its original proposal. As such, FTA proposes to add the reporting of an end-of-year balance sheet for transit systems reporting to the NTD. In order to reduce the burden to reporters, it proposes consolidating the asset and liability classes found in the Uniform System of Accounts (USOA) as follows, with the number of the corresponding USOA accounts in parentheses:

For liabilities, transit systems would report their end-of-year Long Term Debt (221), Estimated Liabilities-Long-Term Pension Liabilities (231.01), Estimated Liabilities-Other (231.02 and 231.03), and Other Liabilities (201-211 & 241).

For financial assets, transit systems would report their end-of-year Cash and Receivables (101 & 102), Investments (131), Special Funds (141), and Other Financial Assets (105, 151). The value of materials and supplies (103), capital assets (111 & 112), and intangible assets (121) would not be collected in order to minimize reporting. The full Uniforms System of Accounts can be found online at http://www.ntdprogram.gov under the link for “Reference Materials.” FTA is proposing to implement these categories for the 2011 Report Year and wishes to give transit systems plenty of time to prepare for this change through training and webinars. Nevertheless, FTA will grant data waivers for the first year of reporting in cases where transit systems need additional time to meet these requirements. Additionally, this information will not be required for any transit system making use of the 30 or fewer vehicles waiver.

(6) Revision of Rules for Urbanized Area Allocations

The NTD recognizes three basic types of geographic areas: urbanized areas over 200,000 in population (large UZAs); urbanized areas under 200,000 in population (small UZAs); and non-urbanized areas (rural areas.) On the FFA-10 form, transit systems reporting to the NTD are required to allocate data on their operating statistics among each of the one or more large UZAs, each of the one or more small UZAs, and to rural areas (in aggregate) served by the transit system. The data to be allocated includes vehicle revenue miles (VRM), vehicle revenue hours (VRH), unlinked passenger trips (UPT), passenger miles traveled (PMT), and operating expenses, as well as fixed-guideway information (if applicable). Transit systems may make this allocation based on actual data (if the transit system ordinarily records actual data based on each of the geographic areas served), or the transit system may allocate its data on the basis of the ratio of vehicle revenue miles operated in each geographic area.

Currently, if a transit system operates transit service connecting one or more small UZAs or rural areas to a large UZA, the NTD allows the transit system to allocate all of that service to the large UZA on the FFA-10 form. This is based on the concept that this service is “serving” the large UZA. In the past, this policy was often beneficial to transit systems, as only large UZAs received an apportionment of funds based on service data reported to the NTD. Thus, allocation of as much service data as possible to the large UZA resulted in the greatest potential benefits in the apportionment. Since the passage of the Safe, Accountable, Flexible, Efficient, Transportation Equity Act: A Legacy for Users (SAFETEA-LU), this calculation has changed. Now, small UZAs also receive an apportionment based on service data reported to the NTD under the Small Transit Intensive Cities (STIC) formula.

FTA proposes to change this policy as follows: Transit systems reporting to the NTD must allocate data on the FFA-10 to each urbanized areas served by the transit system, and to rural areas in aggregate (if rural areas are served by the transit system), based on a reasonable representation of the service provided to each area. Service that connects a small UZA or a rural area to a large UZA cannot be allocated entirely to the large UZA. An area is considered served by transit service if passengers can board or alight the transit service there. Thus, service that begins in a small UZA, operates on a closed-door basis through a rural area, and ends in a large UZA should only be allocated to the small UZA and the large UZA—as the rural area is not served by transit in this case. Transit systems should make this allocation based on actual data whenever possible, but may make this allocation based on VRM, UPT, or PMT, or some other reasonable and consistent method that reflects the service provided.

FTA proposes to change its policy for three reasons. First, FTA wishes to provide a more accurate representation of the distribution of transit service among various urbanized areas and rural areas to our data users. Secondly, the current policy does not properly allocate transit service data to small UZAs for use in calculating the apportionment of funds under the Small Transit Intensive Cities (STIC) Program. Finally, transit researchers and policymakers have expressed concern to FTA that the current policy understates the level of transit service in rural areas. The NTD was recently expanded to collect data from recipients of FTA's Other Than Urbanized Area Formula Grant (Section 5311) Program. The data set produced by this collection, however, produces an incomplete picture of transit service in rural areas in cases where the service is provided by a transit system that is also a recipient of Section 5307 Funds. Data produced by this new policy will provide for a complete picture of rural transit services.

(7) Special Procedures for New Urbanized Area Definitions From the 2010 Census

It is anticipated the Census Bureau will publish new urbanized area definitions based on the 2010 Decennial Census in Spring 2012. By the time these definitions are published, most urbanized area transit systems will have already submitted their 2011 Annual Module reports, and many will have already received their closeout letter for this year. This data, however, must be used for the FY 2013 apportionment of formula grants, which must be conducted using the most-recently-available urbanized area definitions from the Census Bureau. To accomplish this, FTA proposes the following procedures for the 2011 Report Year.

Transit systems reporting to the NTD will complete a B-10 Identification Form and an FFA-10 Form as usual and submit their report according to the usual timelines and procedures. Once the Census Bureau publishes the new Urbanized Area definitions and maps, and once FTA updates the NTD Online Reporting System (ORS) to incorporate these new definitions, FTA will notify all urbanized area NTD reporters to logon to the NTD ORS and submit a new form addenda which will ask each system to confirm which of the new UZAs it serves (as suggested by FTA), to allocate their service among the new UZA boundaries, and to sub-allocate their service by State for any UZA that includes portions of more than one State. Transit systems would not be required to resubmit their Chief Executive Officer Certification nor their Independent Auditor Statement for these report addenda. FTA also notes that in some rare cases, if the Census Bureau releases revisions or corrections to its UZA definitions that FTA may require some adjustments to the aforementioned report addenda, in order to reflect the most-recent UZA definitions. Again, this proposal is to support the FY 2013 apportionment of urbanized area formula grants.

III. Announcement of Suspension of Personal Security Reporting

Effective with the publication of this notice, FTA announces that it is temporarily suspending the reporting of personal security data on the S&S-50 Form of the Safety & Security Module. As part of its continuous evaluation of NTD reporting requirements and respondent reporting burden, FTA has determined that it would be prudent to suspend this data collection at this time, pending further review of its own data needs and the burden of this data collection on the public. FTA will seek public comment before taking action to lift this suspension, alter this data collection, or cancel this data collection permanently. Transit systems reporting to the NTD should continue to report “Other Safety Occurrences Not Otherwise Classified” (e.g. slip and fall/electric shock/other) on the S&S-50 Form and on the “Number of Occurrences of Fire.” All other aspects of this Form are being suspended. Transit systems should also continue to report on the S&S-40: Reportable Incident Form any crime-related incident that meets the threshold criteria of one or more fatalities, one or more injuries, or an evacuation for life-safety reasons.

Issued in Washington, DC, this 24th day of September, 2010.
Peter Rogoff,
Administrator.

[FR Doc. 2010-24990 Filed 10-4-10; 8:45 am]

BILLING CODE P